DEPARTMENT OF COMMERCE

International Trade Administration

[A-549-502]

Circular Welded Carbon Steel Pipes and Tubes From Thailand: Final Results of Antidumping Duty Administrative Review and Final Determination of No Shipments; 2017-2018

AGENCY: Enforcement and Compliance, International Trade Administration, Department of Commerce.

SUMMARY: The Department of Commerce (Commerce) finds that circular welded carbon steel pipes and tubes (pipes and tubes) from Thailand are being, or are likely to be sold, at less than normal value during the period of review (POR), March 1, 2017 through February 28, 2018.

DATES: Applicable November 20, 2019.

FOR FURTHER INFORMATION CONTACT: Toni Page, AD/CVD Operations, Office VII, Enforcement and Compliance, International Trade Administration, U.S. Department of Commerce, 1401 Constitution Avenue NW, Washington, DC 20230; telephone: (202) 482-1398.

SUPPLEMENTARY INFORMATION:

Background

On May 17, 2019, Commerce published the Preliminary Results of the administrative review of the antidumping duty order on pipes and tubes from Thailand.¹ The review covers one mandatory respondent, Saha Thai Steel Pipe (Public) Company, Ltd. (Saha Thai), and twelve non-selected producers/exporters of the subject merchandise. For a discussion of events since the Preliminary Results were published, see the accompanying Issues and Decision Memorandum.²

¹ See Circular Welded Carbon Steel Pipes and Tubes from Thailand: Preliminary Results of Antidumping Duty Administrative Review and Preliminary Determination of No Shipments; 2017-2018, 84 FR 22450 (May 17, 2019) and accompanying Preliminary Decision Memorandum (Preliminary Results).

² See Memorandum, “Circular Welded Carbon Steel Pipes and Tubes from Thailand: Decision Memorandum for the Final Results of Antidumping Duty Administrative Review; 2017-2018,” dated concurrently with, and hereby adopted by, this notice (Issues and Decision Memorandum).

Scope of the Order

The products covered by this review are certain circular welded carbon steel pipes and tubes from Thailand. For a full description of the scope, see the Issues and Decision Memorandum dated concurrently with and hereby adopted by this notice.³

³ Id.

Analysis of Comments Received

All issues raised in the case and rebuttal briefs by parties to this administrative review are addressed in the Issues and Decision Memorandum.⁴ A list of issues raised, and to which we responded, in the Issues and Decision Memorandum, is attached to this notice as an Appendix. The Issues and Decision Memorandum is a public document and is on-file electronically via Enforcement and Compliance's Antidumping and Countervailing Duty Centralized Electronic Service System (ACCESS). ACCESS is available to registered users at https://access.trade.gov and in the Central Records Unit (CRU), room B8024 of the main Commerce building. In addition, a complete version of the Issues and Decision Memorandum can be accessed directly on the internet at http://enforcement.trade.gov/frn/index.html. The signed Issues and Decision Memorandum and the electronic versions of the Issues and Decision Memorandum are identical in content.

⁴ Id.

Final Determination of No Shipments

Commerce preliminarily found that three companies under review, Expeditors Ltd. (Expeditors); K Line Logistics (K Line); and Panalpina World Transport Ltd. (Panalpina), each had no shipments during the POR. We received no further comments or information that refute these findings. Thus, Commerce continues to find that Expeditors, K Line, and Panalpina had no reviewable transactions during the POR.

Changes Since the Preliminary Results

Based on a review of the record, information obtained from verification, and comments received from interested parties, we have made certain changes to Saha Thai's weighted-average dumping margin. For further discussion, see the Issues and Decision Memorandum.

Final Results of the Administrative Review

We determine that the following weighted-average dumping margins exists for the period March 1, 2017 through February 28, 2018:

Producer or exporter | Weighted- average dumping margin (percent)
Saha Thai Steel Pipe (Public) Company, Ltd | 5.15
Apex International Logistics | 5.15
Aquatec Maxcon Asia | 5.15
Asian Unity Part Co., Ltd | 5.15
CSE Technologies Co., Ltd | 5.15
Pacific Pipe Public Company Limited (also known as Pacific Pipe Company) | 5.15
Pacific Pipe and Pump | 5.15
Polypipe Engineering Co., Ltd | 5.15
Siam Fittings Co., Ltd | 5.15
Siam Steel Pipe Co., Ltd | 5.15
Thai Malleable Iron and Steel | 5.15
Thai Premium Pipe Co., Ltd | 5.15
Vatana Phaisal Engineering Company | 5.15

Assessment Rates

Pursuant to section 751(a)(2)(C) of the Tariff Act of 1930, as amended (the Act) and 19 CFR 351.212(b)(1), Commerce determined, and U.S. Customs and Border Protection (CBP) shall assess, antidumping duties on all appropriate entries of subject merchandise, in accordance with the final results of this review. Commerce intends to issue appropriate assessment instructions to CBP 15 days after the date of publication of the final results of review.

Cash Deposit Requirements

The following cash deposit requirements will be effective for all shipments of subject merchandise entered, or withdrawn from warehouse, for consumption on or after the date of publication of the final results of this administrative review, as provided for by section 751(a)(2)(C) of the Act: (1) The cash deposit rate for the companies under review will be equal to the weighted-average dumping margin established in the final results of this review; (2) for previously reviewed or investigated companies not listed above in the Final Results of Review, including those for which Commerce may determine had no shipments during the POR, the cash deposit rate will continue to be the company-specific rate published for the most recently completed segment of this proceeding; (3) if the exporter is not a firm covered in this review or another completed segment of this proceeding, but the manufacturer is, then the cash deposit rate will be the rate established for the most recently completed segment of this proceeding for the manufacturer of the merchandise; and (4) if neither the exporter nor the manufacturer is a firm covered in this or any previously completed segment of this proceeding, then the cash deposit rate will be the “all-others” rate of 15.67 percent established in the less-than-fair-value investigation.⁵ These deposit requirements, when imposed, shall remain in effect until further notice.

⁵ See Antidumping Duty Order; Circular Welded Carbon Steel Pipes and Tubes from Thailand, 51 FR 8341 (March 11, 1986).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Administrative Protective Order

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

We are issuing and publishing this notice in accordance with sections 751(a)(1) and 777(i) of the Act and 19 CFR 351.221(b)(5).

Dated: November 13, 2019.
Jeffrey I. Kessler,
Assistant Secretary for Enforcement and Compliance.

Appendix

List of Topics Discussed in the Issues and Decision Memorandum

I. Summary

II. Background

III. Scope of the Order

IV. Changes Since the Preliminary Results

V. Discussion of the Comments

Comment 1: Particular Market Situation Adjustments to Saha Thai's Cost of Production

Comment 2: Antidumping and Safeguard Duty Adjustments to Saha Thai's Calculations for PMS

Comment 3: Duty Drawback Adjustment

VI. Recommendation

[FR Doc. 2019-25048 Filed 11-19-19; 8:45 am]

BILLING CODE 3510-DS-P